DEPARTMENT OF EDUCATION

Notice of Proposed Information Collection Requests

AGENCY: Department of Education.

ACTION: Correction notice.

SUMMARY: On June 20, 2007, the Department of Education published a comment period notice in the Federal Register (Page 33985, Column 2) for the information collection, “Postsecondary Student Achievement and Institutional Performance Pilot Program.” This notice was published in error. Once the Department finalizes this collection, ED will publish another comment period notice.

The Acting Leader, Information Management Case Services Team, Regulatory Information Management Services, Office of Management, hereby issues a correction notice as required by the Paperwork Reduction Act of 1995.

Dated: June 21, 2007.
James Hyler,
Acting Leader, Information Management Case Services Team, Regulatory Information Management Services, Office of Management.

[FR Doc. E7-12397 Filed 6-26-07; 8:45 am]

BILLING CODE 4000-01-P